DEPARTMENT OF ENERGY

Federal Energy Regulatory Commission

[Docket No. EG03-39-000, et al.]

Bowie Power Station, LLC, et al.; Electric Rate and Corporate Filings

January 24, 2003.

The following filings have been made with the Commission. The filings are listed in ascending order within each docket classification.

1. Bowie Power Station, LLC

[Docket No. EG03-39-000]

Take notice that on January 23, 2003, Bowie Power Station, LLC (Bowie), an Arizona limited liability company with its principal place of business at 4350 East Camelback Road, Suite 150, Phoenix, Arizona, 85018, filed with the Federal Energy Regulatory Commission (Commission) an application for determination of exempt wholesale generator status pursuant to part 365 of the Commission's regulations.

Bowie states that it owns and operates a 900 MW power generation facility located in Cochise County, Arizona (the Facility) and that electric energy produced from the Facility will be sold by Bowie to the wholesale power market.

Comment Date: February 14, 2003.

2. El Paso Electric Company

[Docket No.ER99-2416-001]

Take notice that on January 21, 2003, El Paso Electric Company (EPE) submitted an updated market analysis.

Comment Date: February 11, 2003.

3. PJM Interconnection, L.L.C.

[Docket No. ER02-1326-004]

Take notice that on January 21, 2003, PJM Interconnection, L.L.C. (PJM), in compliance with the Commission's December 19, 2002 Order, submitted for filing amendments to the PJM Open Access Transmission Tariff and the Amended and Restated Operating Agreement. This Amended and Restated Operating Agreement, permits end use customers that have real-time LMP-based contracts to participate in PJM's Economic Load Response Program.

Consistent with the Commission's order, PJM requests an effective date of June 1, 2002 for the compliance amendments.

PJM states that copies of this filing have been served on all parties listed on the official service list compiled by the Secretary in this proceeding, all PJM members, and each state electric utility regulatory commission in the PJM region.

Comment Date: February 11, 2003.

4. Midwest Independent Transmission System Operator, Inc.

[Docket No. ER02-1420-008]

Take notice that in compliance with the Commission's Order in Midwest Independent Transmission System Operator Inc., 101 FERC ¶ 61,319, on January 21, 2003, the Midwest Independent Transmission System Operator, Inc. (Midwest ISO) submitted revisions to the Second Revised, Volume No. 1 Resulting Company Open Access Transmission Tariff (Resulting Company Tariff) and the Second Revised Agreement (Resulting Company Agreement) of Transmission Facilities Owners to Organize the company formerly known as the Midwest Independent Transmission System Operator, Inc., a Delaware Non-stock Corporation. The Midwest ISO has requested the Commission to determine the effective date of its compliance filing to be the day immediately following the consummation of the business combination between the Midwest ISO and Southwest Power Pool as contemplated by the Purchase and Assumption Agreement.

The Midwest ISO has requested waiver of the requirements set forth in 18 CFR 385.2010. The Midwest ISO states that it has electronically served a copy of this filing upon all Midwest ISO Members, Member representatives of Transmission Owners and Non-Transmission Owners, the Midwest ISO Advisory Committee participants, Policy Subcommittee participants, as well as all state commissions within the region. In addition, the filing has been electronically posted on the Midwest ISO's Web site at http://www.midwestiso.org under the heading “Filings to FERC” for other interested parties in this matter. The Midwest ISO also states that it will provide hard copies to any interested parties upon request.

Comment Date: February 11, 2003.

5. New England Power Pool and ISO New England, Inc.

[Docket No. ER02-2330-007]

Take notice that on January 21, 2003, the New England Power Pool (NEPOOL) Participants Committee and ISO New England Inc., (ISO-NE) submitted their Report of Compliance in response to the requirements of the Commission's December 20, 2002 Order, 101 FERC ¶ 61,344.

The Participants Committee states that copies of these materials were sent to the New England state governors and regulatory commissions and the Participants in NEPOOL.

Comment Date: February 11, 2003.

6. Northeast Utilities Service Company

[Docket No. ER03-434-000]

Take notice that on January 21, 2003, Northeast Utilities Service Company (NUSCO), on behalf of The Connecticut Light and Power Company (CL&P), tendered for filing the executed Interconnection Agreement (IA) by and between CL&P and Exeter Energy Limited Partnership (Exeter), designated as Original Service Agreement No. 94 under Northeast Utilities System Companies' Open Access Transmission Tariff No. 9. The IA is a new agreement establishing the terms and conditions under which CL&P will provide interconnection service to Exeter's 26 megawatt waste tire fired electrical generating facility (Generating Facility) located in Sterling, Connecticut.

NUSCO states that a copy of this filing has been mailed to Exeter and that Exeter fully consents to and supports this filing. NUSCO requests an effective date of July 15, 2002 for the IA and requests any waivers of the Commission's regulations that may be necessary to permit such an effective date.

Comment Date: February 11, 2003.

7. ISO New England Inc.

[Docket No. OA97-237-000]

Take notice that on January 22, 2003, ISO New England Inc. filed its “Quarterly Report for Regulators,” as required by New England Power Pool Market Rules and Procedures 17, for the first quarter.

Comment Date: February 12, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-2266 Filed 1-30-03; 8:45 am]

BILLING CODE 6717-01-P